DEPARTMENT OF THE INTERIOR

Bureau of Land Management

[AK-933-1430-ET; AA-12854]

Public Land Order No. 7486; Partial Revocation of Executive Order No. 7032; Alaska

AGENCY: Bureau of Land Management, Interior.

ACTION: Public land order.

SUMMARY: This order partially revokes an Executive Order insofar as it affects approximately 98 acres of public land located on the westerly shore of Sanak Harbor, near Sanak Island, Alaska. The land was withdrawn for lighthouse purposes and is no longer needed for the purpose for which it was withdrawn. The land will continue to be withdrawn as part of the Alaska Maritime National Wildlife Refuge and the Aleutian Islands Wilderness, as established and designated by the Alaska National Interest Lands Conservation Act.

EFFECTIVE DATE: June 11, 2001.

FOR FURTHER INFORMATION CONTACT: Susan Lavin, Bureau of Land Management, Alaska State Office, 222 W. 7th Avenue, No. 13, Anchorage, Alaska 99513-7599, 907-271-3826.

SUPPLEMENTARY INFORMATION: By virtue of the authority vested in the Secretary of the Interior by Section 204 of the Federal Land Policy and Management Act of 1976, 43 U.S.C. 1714 (1994), it is ordered as follows:

1. Executive Order No. 7032, dated May 1, 1935, which withdrew public land near Sanak Island for lighthouse purposes, is hereby revoked insofar as it affects the following described land:

Land located within secs. 3 and 10 of T. 66 S., R. 91 W., Seward Meridian, more particularly described as:

The southern of two unnamed, unsurveyed islands located at approximate latitude 54°30′ N., longitude 162°50′ W., as shown on the United States Coast and Geodetic Survey Chart No. 8841, Sanak Harbor, Sanak Island, Alaska.

The area described contains approximately 98 acres.

2. The land described above will remain withdrawn as part of the Alaska Maritime National Wildlife Refuge, pursuant to Sections 303(1)(iii) and 304(c) of the Alaska National Interest Lands Conservation Act, 16 U.S.C. 668(dd) (1994), and the Aleutian Islands Wilderness, pursuant to Section 702(1) of the Alaska National Interest Lands Conservation Act, 16 U.S.C. 1132 (1994), and will be subject to the terms and conditions of any other withdrawal or segregation of record.

Dated: May 21, 2001.
Gale A. Norton,
Secretary of the Interior.

[FR Doc. 01-14543 Filed 6-8-01; 8:45 am]

BILLING CODE 4310-JA-P